DEPARTMENT OF THE INTERIOR

Bureau of Land Management

Call for Nominations for Northwest Colorado Resource Advisory Council

AGENCY: Bureau of Land Management, Interior.

ACTION: Notice of Resource Advisory Council call for nominations in Northwest Colorado.

SUMMARY: The purpose of this notice is to request public nominations for the Bureau of Land Management (BLM) Northwest Colorado Resource Advisory Council (RAC) specifically in “Category 2,” which includes representatives of nationally or regionally recognized environmental organizations, archaeological and historic organizations, dispersed recreation users, and wild horse and burro organizations. The RAC provides advice and recommendations to BLM on land use planning and management of the public lands within northwestern Colorado. The BLM will consider public nominations for 30 days after the publication date of this notice.

DATES: Send all nominations to the address below no later than July 19, 2006.

ADDRESSES: David Boyd, Glenwood Springs Field Office, BLM, 50629 Highways 6 and 24, Glenwood Springs, Colorado 81601. Phone: (970) 947-2800.

SUPPLEMENTARY INFORMATION: The Federal Land Policy and Management Act (FLPMA) (43 U.S.C. 1730, et seq.) directs the Secretary of the Interior to involve the public in planning and issues related to management of lands administered by BLM. Section 309 of FLPMA directs the Secretary to establish advisory councils, with 10 to 15 members each, that are consistent with the requirements of the Federal Advisory Committee Act (FACA). As required by the FACA, RAC membership must be balanced and representative of the various interests concerned with the management of the public lands. The rules governing RACs are found at 43 CFR subpart 1784.

Individuals may nominate themselves or others. Nominees must be residents of the State or States in which the RAC has jurisdiction. The BLM will evaluate nominees based on their education, training, and experience and their knowledge of the geographical area of the RAC. Nominees should demonstrate a commitment to collaborative resource decisionmaking. The following must accompany all nominations:

—Letters of reference from represented interests or organizations,

—A completed background information nomination form,

—Any other information that speaks to the nominee's qualifications.

Simultaneous with this notice, the BLM Glenwood Springs Field Office will issue a press release providing additional information for submitting nominations.

Dated: April 24, 2006.
Jamie Connell,
Designated Federal Officer, Northwest RAC, Bureau of Land Management.

[FR Doc. E6-9524 Filed 6-16-06; 8:45 am]

BILLING CODE 4310-JB-P